DEPARTMENT OF DEFENSE

Department of the Army; Corps of Engineers

Cancellation of the Notice of Intent To Prepare a Draft and Final Supplemental Environmental Impact Statement for Reach 1B, C, and D on the Herbert Hoover Dike Major Rehabilitation Project, Martin and Palm Beach Counties

AGENCY: Department of the Army, U.S. Army Corps of Engineers, DOD.

ACTION: Notice; cancellation.

SUMMARY: The Jacksonville District, U.S. Army Corps of Engineers (USACE) hereby cancels its Notice of Intent (NOI) to prepare a Supplemental Environmental Impact Statement (SEIS) for Reach 1B, C, and D on the HHD Major Rehabilitation Project, as published in the Federal Register, July 28, 2009 (74 FR 37190). The cancellation of the subject SEIS is necessitated due to a change in scope of the rehabilitation project. The initial focus of the HHD Major Rehabilitation Report (MRR) from 2000 divided the 143 miles dike into eight Reaches with the initial focus on Reach 1. This Reach by Reach approach is being replaced with a system-wide risk reduction approach as required for safety modifications to dams.

FOR FURTHER INFORMATION CONTACT: Questions may be forwarded to Ms. Angela Dunn, Environmental Branch, Planning Division, Jacksonville District, Corps of Engineers, Post Office Box 4970, Jacksonville, FL 32232-0019, Phone: 904-232-2108.

SUPPLEMENTARY INFORMATION: The supplemental MRR will be replaced with a system-wide Dam Safety Modification (DSM) Report. Environmental documentation will be prepared and coordinated in conjunction with the system wide DSM Report as required by the National Environmental Policy Act.

Dated: January 16, 2013.
Eric P. Summa,
Chief, Environmental Branch.

[FR Doc. 2013-02460 Filed 2-4-13; 8:45 am]

BILLING CODE 3720-58-P